DEPARTMENT OF THE INTERIOR

Bureau of Ocean Energy Management

Environmental Documents Prepared for Oil, Gas, and Mineral Operations by the Gulf of Mexico Outer Continental Shelf (OCS) Region

AGENCY: Bureau of Ocean Energy Management (BOEM), Interior.

ACTION: Notice of the Availability of Environmental Documents Prepared for OCS Mineral Proposals by the Gulf of Mexico OCS Region.

SUMMARY: BOEM, in accordance with Federal regulations that implement the National Environmental Policy Act (NEPA), announces the availability of NEPA-related Site-Specific Environmental Assessments (SEAs) and Findings of No Significant Impact (FONSIs). These documents were prepared during the period October 1, 2012, through December 31, 2012, for oil, gas, and mineral-related activities that were proposed in the Gulf of Mexico, and are more specifically described in the Supplementary Information Section of this notice.

FOR FURTHER INFORMATION CONTACT: Bureau of Ocean Energy Management, Gulf of Mexico OCS Region, Attention: Public Information Office (GM 250E), 1201 Elmwood Park Boulevard, Room 250, New Orleans, Louisiana 70123-2394, or by calling 1-800-200-GULF.

SUPPLEMENTARY INFORMATION: BOEM prepares SEAs and FONSIs for certain proposals that relate to exploration, development, production, and transport of oil, gas, and mineral resources on the Federal OCS. These SEAs examine the potential environmental effects of proposed activities and present BOEM conclusions regarding the significance of those effects. The SEAs are used as a basis for determining whether or not approval of the proposals constitutes a major Federal action that significantly affects the quality of the human environment in accordance with NEPA Section 102(2)(C). A FONSI is prepared in those instances where BOEM finds that approval will not result in significant effects on the quality of the human environment. The FONSI briefly presents the basis for that finding and includes a summary or copy of the SEA.

This notice constitutes the public notice of availability of environmental documents required under the NEPA Regulations.

Activity/operator | Location | Date
Stone Energy Corporation, Structure Removal, SEA ES/SR 93-043 | East Cameron, Block 64, Lease OCS-00089, located 21 miles from the nearest Louisiana shoreline | 10/2/2012
Apache Corporation, Structure Removal, SEA ES/SR 11-161 | South Marsh, Block 58, Lease OCS-G 01194, located 57 miles from the nearest Louisiana shoreline | 10/2/2012
Stone Energy Corporation, Structure Removal, SEA ES/SR 12-273 | Vermilion, Block 131, Lease OCS-G 00775, located 32 miles from the nearest Louisiana shoreline | 10/2/2012
Apache Corporation, Structure Removal, SEA ES/SR 12-255 | South Timbalier, Block 205, Lease OCS-G-05612, located 41 miles from the nearest Louisiana shoreline | 10/3/2012
Energy Resource Technology GOM, Inc., Structure Removal, SEA ES/SR 12-265 & 12-266 | Viosca Knoll, Block 204, Lease OCS-G 04921, located 29 miles from the nearest Mississippi shoreline | 10/3/2012
Anadarko Petroleum Corporation, Exploration Plan, SEA R-5670 | Walker Ridge, Block 51, Lease OCS-G 31938, located 153 miles to the nearest Louisiana shoreline | 10/3/2012
Fugro Multi-Client Services, Inc., Geological & Geophysical Survey, SEA L11-017 | Located in the Central Planning Area of the Gulf of Mexico | 10/4/2012
TGS-NOPEC Geophysical Co., Geological & Geophysical Survey, SEA L12-027 | Located in the Central Planning Area of the Gulf of Mexico | 10/4/2012
Eni US Operating Co. Inc., Exploration Plan, SEA S-7565 | Mississippi Canyon, Block 460, Lease OCS-G18245, located 33 miles from the nearest Louisiana shoreline | 10/4/2012
Dynamic Data Services, Inc., Geological & Geophysical Survey, SEA L12-004 | Located in the Western, Central, & Eastern Planning Areas of the Gulf of Mexico | 10/5/2012
Murphy Exploration and Production Company—USA, Exploration Plan, SEA R-5682 | De Soto Canyon, Block 134, Lease OCS-G 23488, located 73 miles from the nearest Louisiana shoreline | 10/9/2012
Anadarko Petroleum Corporation, Exploration Plan, SEA S-7570 | Keathley Canyon, Block 875, Lease OCS-G 21444, located southeast of Houma, Louisiana, 213 miles from the nearest shoreline in Terrebonne Parish, Louisiana | 10/10/2012
BP Exploration & Production Inc., Development Operations Coordination Document, SEA S-7557 | Mississippi Canyon, Block 383, Lease OCS-G 07937, located 49.5 miles from the nearest Louisiana shoreline | 10/10/2012
Energy Resource Technology GOM, Inc., Structure Removal, SEA ES/SR 12-232,12-233, 12-234, 12-235, & 12-236 | South Pelto, Block 12, Lease OCS-00072, located 7 to 9 miles from the nearest Louisiana shoreline | 10/10/2012
Energy Resource Technology GOM, Inc., Structure Removal, SEA ES/SR 12-237, 12-239, & 12-240 | South Pelto, Block 19, Lease OCS-00073, located 7 miles from the nearest Louisiana shoreline | 10/10/2012
Chevron U.S.A. Inc., Geological & Geophysical Survey, SEA L12-015 | Located in the Central Planning Area of the Gulf of Mexico | 10/11/2012
PetroQuest Energy, L.L.C., Structure Removal, SEA ES/SR 12-224 | Ship Shoal, Block 72, Lease OCS-00060, located 4 miles from the nearest Louisiana shoreline | 10/11/2012
Apache Corporation, Structure Removal, SEA ES/SR 12-254 | South Pelto, Block 2, Lease OCS-G 14532, located 3 miles from the nearest Louisiana shoreline | 10/11/2012
Maritech Resources, Inc., Structure Removal, SEA ES/SR 11-292 | West Cameron, Block 586, Lease OCS-G 02436, located 121 miles from the nearest Louisiana shoreline | 10/11/2012
Exxon Mobil Corporation, Development Operations Coordination Document, SEA N-9639 | Keathley Canyon, Block 964, Lease OCS-G 21451, located 215 miles from the nearest Louisiana shoreline | 10/15/2012
BHP Billiton Petroleum (GOM) Inc., Exploration Plan, SEA R-5669 | DeSoto Canyon, Block 726, Lease OCS-G 32014, located 133 miles from the nearest Louisiana shoreline | 10/16/2012
Chevron U.S.A. Inc., Geological & Geophysical Survey, SEA L12-016 | Located in the Central Planning Area of the Gulf of Mexico | 10/16/2012
Stone Energy Corporation, Structure Removal, SEA ES/SR 12-269 & 12-270 | East Cameron, Block 64, Lease OCS-00089, located 20 miles from the nearest Louisiana shoreline | 10/17/2012
Helis Oil & Gas Company, L.L.C., Structure Removal, SEA ES/SR 12-278 | High Island, Block 129, Lease OCS-G 01848, located 28 miles from the nearest Louisiana shoreline | 10/17/2012
Stone Energy Corporation, Structure Removal, SEA ES/SR 12-279 | Vermillion, Block 131, Lease OCS-G 00775, located 33 miles from the nearest Louisiana shoreline | 10/17/2012
Virgin Offshore U.S.A., Inc., Structure Removal, SEA ES/SR 05-114 | East Cameron, Block 2, Lease OCS-G 10605, located 4 miles from the nearest Texas shoreline | 10/18/2012
Stone Energy Corporation, Structure Removal, SEA ES/SR 12-281 | Eugene Island, Block 57, Lease OCS-G 02601, located 6 miles from the nearest Louisiana shoreline | 10/18/2012
Fugro Multi Client Services, Inc., Geological & Geophysical Survey, SEA M12-003 | Located in the Central & Eastern Planning Areas of the Gulf of Mexico | 10/19/2012
Westerngeco LLC, Geological & Geophysical Survey, SEA L12-017 | Located in the Western & Central Planning Area of the Gulf of Mexico, greater than 94 miles from the nearest shoreline | 10/19/2012
W & T Offshore, Inc., Structure Removal, SEA ES/SR 12-274, 12-275, & 12-276 | Galveston, Block 303, Lease OCS-G 04565, located 12 miles from the nearest Texas shoreline | 10/22/2012
Apache Deepwater LLC, Exploration Plan, SEA N-9649 | Green Canyon, Blocks 230 & 274, Lease OCS-G 33233 & OCS-G 33241, located south of Houma, Louisiana, 97 miles from the nearest Louisiana shoreline | 10/22/2012
EP Energy E&P Company, L.P., Structure Removal, SEA ES/SR 06-091A | South Marsh Island, Block 210, Lease OCS-00310, located 7 miles from the nearest Louisiana shoreline | 10/22/2012
Stone Energy Corporation, Structure Removal, SEA ES/SR 12-282 | Vermilion, Block 131, Lease OCS-G 00775, located 32 miles from the nearest Louisiana shoreline | 10/22/2012
Stone Energy Corporation, Structure Removal, SEA ES/SR 12-277 | Vermillion, Block 122, Lease OCS-G 22620, located 34 miles from the nearest Louisiana shoreline | 10/22/2012
Energy XXI GOM, LLC, Structure Removal, SEA ES/SR 12-280 | West Cameron, Block 132, Lease OCS-G 24712, located 19 miles from the nearest Louisiana shoreline | 10/22/2012
Statoil USA E&P Inc., Exploration Plan, SEA R-5667 | Green Canyon, Block 36 & 79, Lease OCS-G 26287 & OCS-G 33816, located south of Louisiana in the Central Planning Area of the Gulf of Mexico | 10/24/2012
Stone Energy Corporation, Structure Removal, SEA ES/SR 12-257 | Vermillion, Block 267, Lease OCS-G 03135, located 71 miles from the nearest Louisiana shoreline | 10/24/2012
Mariner Energy Resources, Inc., Structure Removal, SEA ES/SR 12-256 | West Cameron, Block 172, Lease OCS-G 01998, located 25 miles from the nearest Louisiana shoreline | 10/24/2012
Linder Oil Company, A Partnership, Structure Removal, SEA ES/SR 12-268 | West Cameron, Block 168, Lease OCS-G 05283, located 24 miles from the nearest Louisiana shoreline | 10/29/2012
Shell Offshore Inc., Development Operations Coordination Document, SEA R-5434 | Viosca Knoll, Block 956, Lease OCS-G 06896, located south of Mobile, Alabama, 55.5 miles from the nearest Louisiana shoreline | 10/31/2012
LLOG Exploration Offshore, L.L.C., Exploration Plan, SEA N-9665 | Mississippi Canyon, Block 258, Lease OCS-G 24066, located south of Plaquemines Parish, Louisiana, 61.8 miles from the nearest Louisiana shoreline | 11/2/2012
Shell Offshore Inc., Geological & Geophysical Survey, SEA L12-029 | Main Pass, Viosca Knoll, Mississippi Canyon & DeSoto Canyon Protractions Areas, located 20 miles from the nearest shoreline in the Central Planning Area of the Gulf of Mexico | 11/5/2012
Noble Energy, Inc., Exploration Plan, SEA R-5704 | Mississippi Canyon, Block 698, Lease OCS-G 28022, located 79 miles from the nearest Louisiana shoreline | 11/5/2012
BP Exploration & Production Inc., Exploration Plan, SEA N-9660 | Keathley Canyon, Block 57, Lease OCS-G 25777, located south of Brazoria County, Texas, 184.5 miles from the nearest Texas shoreline | 11/6/2012
Woodside Energy (USA) Inc., Exploration Plan, SEA S-7534 | Walker Ridge, Block 325, Lease OCS-G 32673, located 167 miles from the nearest Louisiana shoreline | 11/7/2012
Shell Offshore Inc., Right-of-Use & Easement, SEA R-5711 | Walker Ridge, Block 536, un-leased block in the Central Planning Area | 11/9/2012
GX Technology, Geological & Geophysical Survey, SEA L12-030 | Western & Central Planning Area of the Gulf of Mexico, located 108 miles from the nearest Texas shoreline | 11/14/2012
Statoil Gulf of Mexico LLC, Exploration Plan, SEA N-9666 | Alaminos Canyon, Block 380, Lease OCS-G 32954, located east of Port Mansfield, Willacy County, Texas, 162 miles from the nearest Texas shoreline | 11/15/2012
Stone Energy Corporation, Structure Removal, SEA ES/SR 12-267 & 12-272 | Vermillion, Block 46, Lease OCS-00079, located 8 miles from the nearest Louisiana shoreline | 11/15/2012
BP Exploration & Production Inc., Exploration Plan, SEA S-7582 | Green Canyon, Blocks 825, 826, & 829, Leases OCS-G 09981, 09982, & 28100, located south of Terrebonne Parish, Louisiana, 130.7 miles from the nearest Louisiana shoreline | 11/20/2012
Shell Offshore Inc., Development Operations Coordination Document, SEA N-9627 | Mississippi Canyon Blocks 762, 806, & 807, located 53 miles from the nearest Louisiana shoreline | 11/20/2012
ConocoPhillips Company, Exploration Plan, SEA N-9662 | Walker Ridge, Blocks 460 & 416, located south of Houma, Louisiana, 171 miles from the nearest shoreline in Terrebonne Parish, Louisiana | 11/20/2012
EMGS Americas, Geological & Geophysical Survey, SEA T12-003 | Alaminos Canyon, Western Planning Area, greater than 10 miles from the nearest shoreline | 11/21/2012
Global Geophysical Services Inc., Geological & Geophysical Survey, SEA L12-028 | Eugene Island, Eugene Island South, & Ship Shoal Areas in the Central Planning Area of the Gulf of Mexico | 11/21/2012
Energy Resource Technology GOM, Inc., Development Operations Coordination Document, SEA S-7556 | Green Canyon, Block 237, Lease OCS-G 15563, located south of Terrebonne Parish, 105 miles from the nearest Louisiana shoreline | 11/26/2012
Chevron U.S.A. Inc., Exploration Plan, SEA N-9667 | Keathley Canyon, Block 736, Lease OCS-G 22367, located south of Cameron Parish, Louisiana, 209 miles from the nearest shoreline in Terrebonne Parish | 11/26/2012
Stone Energy Corporation, Structure Removal, SEA ES/SR 12-271 | East Cameron, Block 64, Lease OCS-00089, located 20 miles from the nearest Louisiana shoreline | 11/27/2012
W & T Offshore, Inc., Structure Removal, SEA ES/SR 11-185 | Eugene Island, Block 371, Lease OCS-G 05525, located 93 miles from the nearest Louisiana shoreline | 11/27/2012
TGS, Geological & Geophysical Survey, SEA L12-034 | Central & Eastern Planning Area of the Gulf of Mexico | 11/28/2012
Tesla Offshore, LLC, Geological & Geophysical Survey, SEA L12-031 | Eugene Island South Addition & South Marsh Island Addition, Central Planning Area of the Gulf of Mexico, located 50 miles from the nearest shoreline | 12/5/2012
Shell Offshore Inc., Geological & Geophysical Survey, SEA L12-033 | Garden Banks & South Marsh Island in the Central Planning Area of the Gulf of Mexico, located 110 miles from the nearest shoreline | 12/6/2012
Apache Deepwater LLC, Exploration Plan, SEA R-5642 | Garden Banks, Block 288, Lease OCS-G 34520, located 128 miles from the nearest shoreline in Vermillion Parish, Louisiana | 12/6/2012
Shell Offshore Inc., Geological & Geophysical Survey, SEA L12-014 | Green Canyon, Block 200, located 80 miles from the nearest Louisiana shoreline | 12/7/2012
Anadarko Petroleum Corporation, Exploration Plan, SEA S-7575 | East Breaks, Blocks 645, 689, & 690, Lease OCS-G 32822, 22295, & 22296, respectively, located south of Brazoria County, Texas, 120 miles from the nearest Texas shoreline | 12/10/2012
Apache Corporation, Development Operations Coordination Document, SEA S-7467 | High Island, Block A-376, Lease OCS-G 02754, located 124 miles from the nearest Louisiana shoreline | 12/10/2012
BP Exploration & Production Inc., Development Operations Coordination Document, SEA R-5519 | Green Canyon, Block 782, Lease OCS-G 15610, located south of Terrebonne Parish, Louisiana, 128.5 miles from the nearest Louisiana shoreline | 12/11/2012
Anadarko Petroleum Corporation, Exploration Plan, SEA S-7585 | Green Canyon, Block 683, Lease OCS-G 18421, located south of Houma, Louisiana, 120 miles from the nearest shoreline in Terrebonne Parish, Louisiana | 12/12/2012
Mariner Energy Resources, Inc., Structure Removal, SEA ES/SR 12-285, 12-286, 12-287, 12-288, & 12-289 | Ship Shoal, Block 26, Lease OCS-G 01441, located 6 miles from the nearest Louisiana shoreline | 12/12/2012
Mariner Energy Resources, Inc., Structure Removal, SEA ES/SR 12-291, 12-292, 12-293, 12-294, 12-295, 12-296, & 12-297 | Ship Shoal, Block 26, Lease OCS-G 01441, located 4-5 miles from the nearest Louisiana shoreline | 12/17/2012
Tesla Offshore, LLC, Geological & Geophysical Survey, SEA L12-031MOD | Eugene Island South Addition & South Marsh Island, located 50 miles from the nearest shoreline | 12/18/2012
Apache Corporation, Structure Removal, SEA ES/SR 12-290 | Eugene Island, Block 88, Lease OCS-G 10721, located 25 miles from the nearest Louisiana shoreline | 12/18/2012
Pisces Energy LLC, Structure Removal, SEA ES/SR 12-298 & 12-299 | High Island, Block A523, Lease OCS-G 11390 located 92 & 94 miles respectively from the nearest Louisiana shoreline | 12/18/2012
Pisces Energy LLC, Structure Removal, SEA ES/SR 11-015A | High Island, Block A523, Lease OCS-G 11390, located 94 miles from the nearest Louisiana shoreline | 12/18/2012
Anadarko Petroleum Corporation, Exploration Plan, SEA S-7587 | Walker Ridge, Block 51, Lease OCS-G 31938, located southwest of Houma, Louisiana, 153 miles from the nearest shoreline in Terrebonne Parish, Louisiana | 12/18/2012
Anadarko Petroleum Corporation, Development Operations Coordination Document, SEA N-9664 | Lease OCS-G 21444, 21447, & 26771, located south of Terrebonne Parish, Louisiana, 211.9 miles from the nearest Louisiana shoreline | 12/19/2012
Pisces Energy LLC, Structure Removal, SEA ES/SR 12-300 & -301 | Mustang Island, Block 739, Lease OCS-G 04064, located 24 miles from the nearest Louisiana shoreline | 12/19/2012
Anadarko Petroleum Corporation, Exploration Plan, SEA S-7589 | Green Canyon, Block 562, Lease OCS-G 11075, located south of Terrebonne Parish, Louisiana, 113 miles from the nearest Louisiana shoreline | 12/20/2012
Shell Offshore Inc., Exploration Plan, SEA N-9670 | Mississippi Canyon, Block 721, Lease OCS-G 33171, Block 720, Lease OCS-G 33170, & Block 722, OCS-G 33172, located south of Venice, Louisiana, 49 miles from, the nearest shoreline in Plaquemines Parish, Louisiana | 12/20/2012
Pisces Energy LLC, Structure Removal, SEA ES/SR 12-318 | North Padre Island, Block A59, Lease OCS-G 07155, located 34 miles from the nearest Louisiana shoreline | 12/20/2012
Mariner Energy, Inc., Structure Removal, SEA ES/SR 12-284 | Ship Shoal, Block 26, Lease OCS-G 01441, located 5 miles from the nearest Louisiana shoreline | 12/20/2012
PetroQuest Energy, L.L.C., Structure Removal, SEA ES/SR 12-261 | Vermilion, Block 287, Lease OCS-G 03137, located 75 miles from the nearest Louisiana shoreline | 12/20/2012
WesternGeco, LLC, Geological & Geophysical Survey, SEA L12-035 | Viosca Knoll, DeSoto Canyon, Lloyd Ridge, & Destin Dome in the Central and Eastern Planning Areas of the Gulf of Mexico | 12/20/2012
Anadarko Petroleum Corporation, Exploration Plan, SEA R-5726 | Walker Ridge, Block 51, Lease OCS-G 31983, located 153 miles from the nearest Louisiana shoreline | 12/20/2012
LLOG Exploration Offshore, L.L.C., Development Operations Coordination Document, SEA S-7563 | Mississippi Canyon, Block 503, Lease OCS-G 27277, located 36 miles from the nearest Louisiana shoreline | 12/21/2012
Taylor Engineering, Inc., Geological & Geophysical Survey, SEA E12-001 & E12-002 | Nearshore sand shoals off Jupiter, Florida, located three miles from the nearest Florida shoreline | 12/21/2012
Exxon Mobil Corporation, Exploration Plan, SEA R-5731 | Walker Ridge, Block 674, Lease OCS-G 32699, located 190 miles from the nearest Louisiana shoreline | 12/21/2012

Persons interested in reviewing environmental documents for the proposals listed above or obtaining information about the SEAs and FONSIs prepared by the Gulf of Mexico OCS Region are encouraged to contact BOEM at the address or telephone listed in the FOR FURTHER INFORMATION CONTACT section.

Dated: January 11, 2013.
John L. Rodi,
Regional Director, Gulf of Mexico OCS Region.

[FR Doc. 2013-03994 Filed 2-20-13; 8:45 am]

BILLING CODE 4310-MR-P